DEPARTMENT OF COMMERCE

International Trade Administration

(A-428-815)

Preliminary Results of Antidumping Duty Changed Circumstances Reviews And Notice of Intent to Revoke Order in Part: Certain Corrosion-Resistant Carbon Steel Flat Products from Germany

AGENCY: Import Administration, International Trade Administration, Department of Commerce.

SUMMARY: On September 5, 2006, the U.S. Department of Commerce (“the Department”) published a notice of initiation of antidumping duty changed circumstances review on certain corrosion-resistant carbon steel flat products from Germany, as described below. See Initiation of Antidumping Duty Changed Circumstances Reviews: Certain Corrosion-Resistant Carbon Steel Flat Products from Germany, 71 FR 53653, (September 5, 2006) (“Initiation Notice”). In our Initiation Notice, the Department invited interested parties to comment on the request to exclude certain corrosion-resistant carbon steel flat products from Germany (“product in question”) as described below from the scope of this order. The Department received no comments.

Absent any comments, the Department preliminarily concludes that producers accounting for substantially all of the production of the domestic like product to which this order pertains lack interest in the relief provided by this order with respect to the product in question. Therefore, the Department preliminarily concludes that it is appropriate to revoke this order, in part, with respect to unliquidated entries of the product in question not covered by the final results of an administrative review, based on the fact that domestic parties have made an affirmative statement of no interest in the continuation of the order with respect to that product. This revocation would not apply to unliquidated entries that are covered by the final results of an administrative review, even if those entries are subject to litigation.

EFFECTIVE DATE: October 13, 2006.

FOR FURTHER INFORMATION CONTACT: Judy Lao or Abdelali Elouaradia, AD/CVD Operations, Office 7, Import Administration, International Trade Administration, U.S. Department of Commerce, 14th Street and Constitution Ave., NW, Washington, DC 20230; telephone: (202) 482-7924 and (202) 482-1374, respectively.

SUPPLEMENTARY INFORMATION:

Background

The Department published the antidumping duty orders on corrosion-resistant carbon steel from Germany on August 19, 1993. See Notice of Antidumping Duty Order: Corrosion-Resistant Carbon Steel Flat Products from Germany, 58 FR 44170. See also Final Results of Changed Circumstances Antidumping Duty and Countervailing Duty Reviews and Revocation of Orders in Part: Certain Corrosion-Resistant Carbon Steel Flat Products from Germany, 64 FR 51292 (September 22, 1999), and Final Results of Changed Circumstances Antidumping and Countervailing Duty Reviews and Revocation of Orders in Part: Certain Corrosion-Resistant Carbon Steel Flat Products from Canada and Germany, 71 FR 14498 (March 22, 2006).

On August 17, 2006, ThyssenKrupp Steel North America, Inc. (“ThyssenKrupp”), a U.S. importer of the subject merchandise, requested a changed circumstances review with respect to a specific corrosion-resistant carbon steel flat products from Germany. Specifically, ThyssenKrupp requested to exclude from the antidumping duty order on corrosion-resistant carbon steel flat products from Germany, imports meeting the following description: electrolytically zinc coated flat steel products, with a coating mass between 35 and 72 grams per meter squared on each side; with a thickness range of 0.67 mm or more but not more than 2.95 mm and width 817 mm or more but not over 1830 mm; having the following chemical composition (percent by weight): carbon not over 0.08, silicon not over 0.25, manganese not over 0.9, phosphorous not over 0.025, sulfur not over 0.012, chromium not over 0.1, titanium not over 0.005 and niobium not over 0.05; with a minimum yield strength of 310 Mpa and a minimum tensile strength of 390 Mpa; additionally coated on one or both sides with an organic coating containing not less than 30%% and not more than 60%% zinc and free of hexavalent chrome. See ThyssenKrupp letter to the Department dated August 17, 2006.¹ In addition, Mittal Steel USA (“Mittal Steel”), a domestic corrosion-resistant producer, submitted a letter to the Department expressing a lack of interest in continuing to have the product in question subject to the antidumping duty order.² Mittal Steel also stated that it is a major domestic producer of the subject merchandise. See Mittal Steel letter to the Department dated August 18, 2006. In response to the request made by the “interested party” within the meaning of Section 771(9) of the Act, ThyssenKrupp, and the lack of interest from Mittal Steel, the Department published a notice of initiation of changed circumstances reviews of the antidumping duty order on corrosion-resistant carbon steel flat products from Germany on September 5, 2006. See Initiation Notice. On September 27, 2006, ThyssenKrupp stated that it advocated that the effective date for the exclusion be August 1, 2005. In the Initiation Notice, the Department indicated that interested parties could submit comments for consideration in the Department's preliminary results no later than 15 days after publication of the initiation of this review. The Department received no comments from interested parties.

¹ DaimlerChrylser Corporation (“DaimlerChrysler”), a domestic customer of corrosion-resistant, also submitted letters to the Department pre-dating ThyssenKrupp's request, indicating that it had contacted United States Steel Corporation, Mittal Steel, AK Steel, and Nucor Corporation and determined they are not interested in maintaining the antidumping duty order with respect to the product in question. See Letters to the Department from DaimlerChrysler dated June 22, 2006 and July 18, 2006.

² On September 26, 2006, Mittal Steel submitted a letter to the Department clarifying minor discrepancies in its August 18, 2006 submission regarding the product specifications it is no longer interested in continuing to be covered by the antidumping duty order on corrosion-resistant carbon steel flat products from Germany.

Scope of the Order

The products covered by this order are corrosion-resistant carbon steel flat products from Germany. This scope includes flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule of the United States (HTSUS) under item numbers: 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, 7217.90.5090. Included in this order are flat-rolled products of non-rectangular cross-section where such cross-section is achieved subsequent to the rolling process (i.e., products which have been “worked after rolling”) - for example, products which have been beveled or rounded at the edges. Excluded from this order are flat-rolled steel products either plated or coated with tin, lead, chromium, chromium oxides, both tin and lead (“terne plate”), or both chromium and chromium oxides (“tin-free steel”), whether or not painted, varnished or coated with plastics or other nonmetallic substances in addition to the metallic coating. Also excluded from this order are clad products in straight lengths of 0.1875 inch or more in composite thickness and of a width which exceeds 150 millimeters and measures at least twice the thickness. Also excluded from this order are certain clad stainless flat-rolled products, which are three-layered corrosion-resistant carbon steel flat-rolled products less than 4.75 millimeters in composite thickness that consist of a carbon steel flat-rolled product clad on both sides with stainless steel in a 20%%-60%%-20%% ratio. Also excluded from this order are deep-drawing carbon steel strip, roll-clad on both sides with aluminum (AlSi) foils in accordance with St3 LG as to EN 10139/10140. The merchandise's chemical composition encompasses a corrosion-resistant material of U St 23 (continuous casting) in which carbon is less than 0.08; manganese is less than 0.30; phosphorous is less than 0.20; sulfur is less than 0.015; aluminum is less than 0.01; and the cladding material is a minimum of 99%% aluminum with silicon/copper/iron of less than 1%%. The products are in strips with thicknesses of 0.07mm to 4.0mm (inclusive) and widths of 5mm to 800mm (inclusive). The thickness ratio of aluminum on either side of steel may range from 3%%/94%%/3%% to 10%%/80%%/10%%. Also excluded from this order are corrosion-resistant carbon steel flat products meeting the following description: certain flat-rolled wear plate ranging from 30 inches to 50 inches in width, from 45 inches to 110 inches in length and from 0.187 inch to 0.875 inch in total thickness, having a layer on one side composed principally of a combination of boron carbides, chromium carbides, nickel carbides, silicon carbides, manganese carbides, niobium carbides, iron carbides, tungsten carbides, vanadium carbides, titanium carbides and/or molybdenum carbides fused to a non-alloy flat-rolled steel substrate. The carbides are in the form of MxCx where “M” stands for the metal and “x” for the atomic ratio. An example of a common carbide would be (Cr7C3). The carbide layer is a visually distinct layer ranging in thickness from 0.062 inch to 0.312 inch with hardness at the surface of the carbide layer in excess of 55 HRC.

The HTSUS item numbers are provided for convenience and Customs purposes. The written description remains dispositive.

Scope of Changed Circumstances Review

The products subject to this changed circumstances review are corrosion-resistant carbon steel flat products, from Germany meeting the following description: electrolytically zinc coated flat steel products, with a coating mass between 35 and 72 grams per meter squared on each side; with a thickness range of 0.67 mm or more but not more than 2.95 mm and width 817 mm or more but not over 1830 mm; having the following chemical composition (percent by weight): carbon not over 0.08, silicon not over 0.25, manganese not over 0.9, phosphorous not over 0.025, sulfur not over 0.012, chromium not over 0.1, titanium not over 0.005 and niobium not over 0.05; with a minimum yield strength of 310 Mpa and a minimum tensile strength of 390 Mpa; additionally coated on one or both sides with an organic coating containing not less than 30%% and not more than 60%% zinc and free of hexavalent chrome. See ThyssenKrupp letter to the Department dated August 17, 2006.

Preliminary Results of Reviews and Intent to Revoke in Part the Antidumping Duty Order

Pursuant to section 751(d)(1) of the Tariff Act of 1930, as amended (the Act), the Department may revoke an antidumping or countervailing duty order, in whole or in part, based on a review under section 751(b) of the Act (i.e., a changed circumstances review). Section 751(b)(1) of the Act requires a changed circumstances review to be conducted upon receipt of a request which shows changed circumstances sufficient to warrant a review. Section 782(h)(2) of the Act gives the Department the authority to revoke if producers accounting for substantially all of the production of the domestic like product have expressed a lack of interest in the continuation of relief.

As stated in the Initiation Notice, ThyssenKrupp, an importer of the subject merchandise, and Mittal Steel, a major domestic producer of corrosion-resistant carbon steel flat products, attested to their lack of interest in continued relief from imports of the product in question. Since the Department received no comments during the comment period opposing the partial revocation of the order as to the product in question from this antidumping duty order, the Department preliminarily concludes that producers accounting for substantially all of the production of the domestic like product to which these orders pertain lack interest in the relief provided by this order with respect to the product in question. If these results become final, the Department will revoke the order, in part, for all unliquidated entries of the product in question not covered by the final results of an administrative review. The most recent period for which the Department has completed an administrative review, or ordered automatic liquidation, is August 1, 2004, through July 31, 2005. Any prior entries are subject either to final results of review or automatic liquidation. Therefore, we will instruct U.S. Customs and Border Protection (CBP) to liquidate, without regard to antidumping duties, shipments of certain wear plate products entered, or withdrawn from warehouse, for consumption on or after August 1, 2005. The Department will also instruct CBP to end suspension of liquidation for the product in question, and to release any cash deposits or bonds pursuant to 19 CFR 351.222(g)(4). Moreover, the Department will instruct CBP to pay interest on such refunds in accordance with section 778 of the Act.

Interested parties wishing to comment on these preliminary results may submit briefs to the Department no later than 15 days after the publication of this notice in the Federal Register. Parties will have 7 days subsequent to this due date to submit rebuttal comments, limited to the issues raised in those briefs. Parties who submit briefs or rebuttal comments in this proceeding are requested to submit with each argument (1) a statement of the issue and (2) a brief summary of the argument (no longer than five pages, including footnotes). Any requests for hearing must be filed within 30 days of the publication of this notice in the Federal Register.

All written comments must be submitted in accordance with 19 CFR 351.303, with the exception that only three (3) copies for each case need be served on the Department. Any comments must also be served on all interested parties on the Department's service list, which is available on our website (http://ia.ita.doc.gov/apo/index.html). The Department will issue its final results in this changed circumstances review as soon as practicable following the above comment period, but not later than 270 days after the date on which the changed circumstances review was initiated, in accordance with 19 CFR 351.216(e), and will publish the results in the Federal Register. While the changed circumstances review is underway, the current requirement for a cash deposit of estimated antidumping duties on all subject merchandise, including the merchandise that is the subject of this changed circumstances review, will continue unless and until this order is revoked, in part, pursuant to the final results of this changed circumstances review or an administrative review.

This notice is published in accordance with sections 751(b)(1) and 777(i)(1) of the Act and 19 CFR 351.216 and 351.222.

Dated: October 4, 2006.
David M. Spooner,
Assistant Secretary for Import Administration.

[FR Doc. E6-16945 Filed 10-12-06; 8:45 am]

BILLING CODE 3510-DS-S